DEPARTMENT OF THE INTERIOR

National Park Service

Notice of Intent to Repatriate Cultural Items: Peabody Museum of Archaeology and Ethnology, Harvard University, Cambridge, MA; Correction

AGENCY: National Park Service, Interior.

ACTION: Notice; correction.

Notice is here given in accordance with the Native American Graves Protection and Repatriation Act (NAGPRA), 25 U.S.C. 3005, of the intent to repatriate cultural items in the possession of the Peabody Museum of Archaeology and Ethnology, Harvard University, Cambridge, MA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the Native American cultural items. The National Park Service is not responsible for the determinations in this notice.

This notice corrects the culturally affiliated groups listed in a Notice of Intent to Repatriate Cultural Items published in the Federal Register of July 30, 2007 (FR Doc. E7-14578, pages 41522-41524), by the addition of the Stockbridge Munsee Community, Wisconsin. After publication of the notice, additional evidence derived from historical information and further consultations with the Stockbridge Munsee Community, led to this revised finding of cultural affiliation. Based on the additional evidence, officials of the Peabody Museum of Archaeology and Ethnology have found that there is a relationship of shared group identity between the Delaware people (from Middle Woodland through Historic period) and the Munsee Delaware people who are represented by the Stockbridge Munsee Community, Wisconsin. Descendants of the Delaware people are represented by the Cherokee Nation, Oklahoma, on behalf of the Delaware Tribe of Indians; Delaware Nation, Oklahoma; and Stockbridge Munsee Community, Wisconsin.

In the Federal Register of July 30, 2007 (FR Doc. E7-14578, pages 41522-41524), paragraph numbers 21and 22 are corrected by substituting the following paragraph:

Officials of the Peabody Museum of Archaeology and Ethnology have determined that, pursuant to 25 U.S.C. 3001 (3)(B), the 39 cultural items described above are reasonably believed to have been placed with or near individual human remains at the time of death or later as part of the death rite or ceremony and are believed, by a preponderance of the evidence, to have been removed from specific burial sites of Native American individuals. Officials of the Peabody Museum of Archaeology and Ethnology also have determined that, pursuant to 25 U.S.C. 3001 (2), there is a relationship of shared group identity that can be reasonably traced between the unassociated funerary objects and the Cherokee Nation, Oklahoma, on behalf of the Delaware Tribe of Indians; Delaware Nation, Oklahoma; and Stockbridge Munsee Community, Wisconsin.

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before November 6, 2008. Repatriation of the unassociated funerary objects to the Cherokee Nation, Oklahoma, on behalf of the Delaware Tribe of Indians; Delaware Nation, Oklahoma; and Stockbridge Munsee Community, Wisconsin may proceed after that date if no additional claimants come forward.

The Peabody Museum of Archaeology and Ethnology is responsible for notifying the Cherokee Nation, Oklahoma; Delaware Nation, Oklahoma; Stockbridge Munsee Community, Wisconsin; and Delaware Tribe of Indians, a non-federally recognized Indian group, that this notice has been published.

Dated: September 10, 2008
Sherry Hutt,
Manager, National NAGPRA Program.

[FR Doc. E8-23696 Filed 10-6-08; 8:45 am]

BILLING CODE 4312-50-S